DEPARTMENT OF HOMELAND SECURITY

Transportation Security Administration

Reports, Forms, and Recordkeeping Requirements: Agency Information Collection Activity Under OMB Review; Registered Traveler (RT) Pilot Program; Satisfaction and Effectiveness Measurement Data Collection Instruments

AGENCY: Transportation Security Administration (TSA), DHS.

ACTION: Notice of emergency clearance request.

SUMMARY: The U.S. Department of Homeland Security, Transportation Security Administration, has submitted a request for emergency processing of a new information collection to the Office of Management and Budget (OMB) for review and immediate clearance by June 1, 2004, under the Paperwork Reduction Act of 1995 (Pub. L. 104-13, 44 U.S.C. 35). This notice announces that the Information Collection Request (ICR) abstracted below has been forwarded to OMB for review and comment. The ICR describes the nature of the information collection and its expected burden.

DATES: Send your comments by June 25, 2004. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Privacy Act Officer, Information Management Programs, Office of Finance and Administration, TSA-17, 601 South 12th Street, Arlington, Virginia 22202-4220; telephone (571) 227-1954; facsimile (571) 227-2906.

SUPPLEMENTARY INFORMATION:

Transportation Security Administration (TSA)

Title: Registered Traveler (RT) Pilot Program; Satisfaction and Effectiveness Measurement Data Collection Instruments.

Type of Request: Emergency processing request of a new collection.

OMB Control Number: Not yet assigned.

Form(s): Electronic enrollment application; satisfaction survey.

Affected Public: Applicants to the RT Pilot Program and lead stakeholders.

Abstract: TSA plans to conduct a pilot technology program in 2004, in a limited number of airports, to test and evaluate the merits of the Registered Traveler (RT) concept. This pilot program (RT Pilot) is designed to positively identify qualified, known travelers via advanced identification technologies for the purposes of expediting those passengers' travel experience at the airport security checkpoints and thereby enabling TSA to improve the allocation of its limited security resources.

TSA will collect and retain a minimal amount of personal information from individuals who volunteer to participate in the RT Pilot that will be used to verify an applicant's claimed identity, complete a security assessment, and, if applicable, issue an identification token prior to enrollment in the program. In addition, TSA will administer two instruments to measure customer satisfaction and to collect data on the effectiveness of the pilot technologies and business processes. The first instrument will be a survey of a representative percentage of the RT Pilot participants. The second instrument will be an interview conducted with the key stakeholders at sites participating in the RT Pilot. All surveys and interviews will be voluntary and anonymous.

Number of Respondents: 10,040.

Estimated Annual Burden Hours: 3,738.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on May 20, 2004.
Susan T. Tracey,
Chief Administrative Officer.

[FR Doc. 04-11891 Filed 5-25-04; 8:45 am]

BILLING CODE 4910-62-P